DEPARTMENT OF COMMERCE

National Oceanic and Atmospheric Administration

[RTID 0648-XE175]

Marine Mammals; File No. 27911

AGENCY: National Marine Fisheries Service (NMFS), National Oceanic and Atmospheric Administration (NOAA), Commerce.

ACTION: Notice; receipt of application.

SUMMARY: Notice is hereby given that Ari Friedlaender, Ph.D., University of California at Santa Cruz, 115 McAllister Way, Santa Cruz, CA 95060, has applied in due form for a permit to conduct research on eight whale species.

DATES: Written comments must be received on or before September 13, 2024.

ADDRESSES: The application and related documents are available for review by selecting “Records Open for Public Comment” from the “Features” box on the Applications and Permits for Protected Species home page, https://apps.nmfs.noaa.gov, and then selecting File No. 27911 from the list of available applications. These documents are also available upon written request via email to NMFS.Pr1Comments@noaa.gov.

Written comments on this application should be submitted via email to NMFS.Pr1Comments@noaa.gov. Please include File No. 27911 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on eight species of whales in the Southern Ocean to understand their population demography, health, behavior, and ecology. Species targeted for study are: Antarctic minke (Balaenoptera bonaerensis), Arnoux's beaked (B. arnouxii), endangered blue (B. musculus), endangered fin (B. physalus), humpback (Megaptera novaeangliae), killer (Orcinus orca), endangered sei (B. borealis), endangered Southern right (Eubalaena australis) whales. Researchers would operate vessels and unmanned aircraft systems (UAS) to count, observe, photograph, biopsy sample, tag (suction-cup, dart, or deep implant), and track whales. Suction cup tags would be deployed by pole or UAS. A small number of adult humpback whales would receive two tag types at a time. Prey mapping would occur in the vicinity of some tagged whales. Biopsy samples would be imported into the United States for analysis and curation. See the application for take numbers by species. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 6, 2024.
Julia M. Harrison,
Chief, Permits and Conservation Division, Office of Protected Resources, National Marine Fisheries Service.

[FR Doc. 2024-17968 Filed 8-13-24; 8:45 am]

BILLING CODE 3510-22-P